DEPARTMENT OF HEALTH AND HUMAN SERVICES

National Institutes of Health

Fogarty International Center; Amended Notice of Meeting

Notice is hereby given of a change in the meeting of the Fogarty International Center Advisory Board, February 10, 2025, 01:00 p.m. to February 11, 2025, 04:00 p.m., Fogarty International Center National Institutes, Lawton Chiles International House (Stone House), 16 Center Drive, Conference Room, Bethesda, MD 20892 which was published in the Federal Register on November 12, 2024, 89 FR 89020.

The meeting notice is amended to change the start date of the meeting from 2/10-11/2025 to 4/30/2025. The meeting is partially Closed to the public.

Dated: March 25, 2025.
Bruce A. George,
Program Analyst, Office of Federal Advisory Committee Policy.

[FR Doc. 2025-05434 Filed 3-28-25; 8:45 am]

BILLING CODE 4140-01-P